DEPARTMENT OF DEFENSE

Office of the Secretary

Department of Defense Implementation of the National Environmental Policy Act

AGENCY: Office of the Secretary of Defense, Department of Defense (DoD).

ACTION: Public notice.

SUMMARY: The Army, Navy and Air Force are rescinding their NEPA implementing regulations in separate interim final rules. The Department will make the Department of Defense National Environmental Policy Act Implementing Procedures (DoD NEPA Procedures) available on the website listed in the SUPPLEMENTARY INFORMATION section of this notice on June 30, 2025.

FOR FURTHER INFORMATION CONTACT: Terry Bowers, Office of the Assistant Secretary of Defense for Energy, Installations, and Environment, (703) 693-9447, terry.l.bowers14.civ@mail.mil.

SUPPLEMENTARY INFORMATION: The Council on Environmental Quality (CEQ) previously issued regulations at 40 CFR parts 1500-1508 implementing the National Environmental Policy Act (NEPA). On February 25, 2025, CEQ issued an interim final rule to remove these regulations. See Removal of National Environmental Policy Act Implementing Regulations (90 FR 10610; Feb. 25, 2025). This action was necessitated by and consistent with Executive Order (E.O.) 14154, Unleashing American Energy (90 FR 8353; January 20, 2025), in which President Trump rescinded President Carter's E.O. 11991, Relating to Protection and Enhancement of Environmental Quality (42 FR 26967; May 24, 1977), which was the original authority for CEQ's issuance of NEPA implementing regulations. The Military Departments' NEPA implementing procedures had served as a supplement to those CEQ regulations. E.O. 14154 further directed agencies to revise their NEPA implementing procedures consistent with the E.O.; the Military Departments will therefore repeal their respective National Environmental Policy Act (NEPA) implementing regulations by June 30, 2025.

The Department will also issue the Department of Defense National Environmental Policy Act Implementing Procedures (DoD NEPA Procedures) on June 30, 2025. These procedures will apply to DoD Components including functions for the Army Civil Works programs. These procedures will be available on https://www.denix.osd.mil/nepa/. The U.S. Army Corps of Engineers will issue separate NEPA implementing regulations for their regulatory functions formerly addressed under title 33 CFR part 320.

The DoD NEPA Procedures provide guidelines for agency procedure and practice with respect to NEPA compliance. The DoD NEPA Procedures do not govern the rights and obligations of any party outside the federal government. Further, nothing contained in the DoD NEPA Procedures is intended or should be construed to limit the Department's other authorities or legal responsibilities.

The DoD NEPA Procedures seek to faithfully implement the recent significant changes to NEPA prescribed by Congress, instruction provided by the President, and guidance provided by the Supreme Court. They streamline and improve efficiency of the environmental review process; expedite project delivery; and ensure that NEPA documents inform and, to the extent appropriate, involve the public, focus on the significant issues that require analysis, and foster informed decision-making based on an understanding of the potential action's environmental impacts. Appendix A to the DoD NEPA Procedures lists categorical exclusions that have been established by DoD Components.

Dated: June 26, 2025.
Aaron T. Siegel,
Alternate OSD Federal Register Liaison Officer, Department of Defense.

[FR Doc. 2025-12094 Filed 6-27-25; 8:45 am]

BILLING CODE 6001-FR-P